FEDERAL TRADE COMMISSION

SES Performance Review Board

AGENCY: Federal Trade Commission.

ACTION: Notice.

SUMMARY: Notice is hereby given of the appointment of members to the FTC Performance Review Board.

FOR FURTHER INFORMATION CONTACT: Georgia Koliopoulos, Director of Human Resources, 600 Pennsylvania Avenue, NW., Washington, DC 20580, (202) 326-2364.

SUPPLEMENTARY INFORMATION: Publication of the Performance Review Board (PRB) membership is required by 5 U.S.C. 4314(c)(4). The PRB reviews and evaluates the initial appraisal of a senior executive's performance by the supervisor, and makes recommendations regarding performance ratings to the Chairman.

The following individuals have been designated to serve on the Commission's Performance Review Board:

Charles H. Schneider, Executive Director, Chairman

Susan Creighton, Director, Bureau of Competition

Lydia B. Parnes, Director, Bureau of Consumer Protection

Michael A. Salinger, Director, Bureau of Economics

William Blumenthal, General Counsel

Maryanne S. Kane, Chief of Staff

By direction of the Commission.
Donald S. Clark,
Secretary.

[FR Doc. 05-19660 Filed 9-30-05; 8:45 am]

BILLING CODE 6750-01-P